ENVIRONMENTAL PROTECTION AGENCY

40 CFR Part 52

[PA-4135a; FRL-7084-4]

Approval and Promulgation of Air Quality Implementation Plans; Pennsylvania; VOC and NOX RACT Determinations for 14 Individual Sources Located in the Philadelphia-Wilmington-Trenton Area; Withdrawal of Direct Final Rule

AGENCY: Environmental Protection Agency (EPA).

ACTION: Withdrawal of direct final rule.

SUMMARY: Due to receipt of a letter of adverse comment, EPA is withdrawing the direct final rule approving revisions which establish reasonably available control technology (RACT) requirements for fourteen major sources of volatile organic compounds (VOC) and nitrogen oxides ( NOX) located in the Philadelphia-Wilmington-Trenton ozone nonattainment area. In the direct final rule published on September 6, 2001 (66 FR 46525), EPA stated that if it received adverse comment by October 9, 2001, the rule would be withdrawn and not take effect. EPA subsequently received adverse comments from the Citizens for Pennsylvania's Future (PennFuture). EPA will address the comments received in a subsequent final action based upon the proposed action also published on September 6, 2001 (66 FR 46573). EPA will not institute a second comment period on this action.

DATES: The direct final rule is withdrawn as of October 17, 2001.

FOR FURTHER INFORMATION CONTACT: Harold A. Frankford at (215) 814-2108.

List of Subjects in 40 CFR Part 52

Environmental protection, Air pollution control, Hydrocarbons, Incorporation by reference, Nitrogen dioxide, Ozone, Reporting and recordkeeping requirements.

Dated: October 10, 2001.
James W. Newsom,
Acting Regional Administrator, Region III.

PART 40—[AMENDED]

§ 52.2020 [Amended]

Accordingly, the addition of § 52.2020(c)(169) is withdrawn as of October 17, 2001.

[FR Doc. 01-26089 Filed 10-16-01; 8:45 am]

BILLING CODE 6560-50-P